DEPARTMENT OF HOUSING AND URBAN DEVELOPMENT

[Docket No. FR-6101-N-01]

Notice of Regulatory Waiver Requests Granted for the First Quarter of Calendar Year 2018

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on January 1, 2018 and ending on March 31, 2018.

FOR FURTHER INFORMATION CONTACT: For general information about this notice, contact Aaron Santa Anna, Assistant General Counsel for Regulations, Department of Housing and Urban Development, 451 7th Street SW, Room 10276, Washington, DC 20410-0500, telephone 202-708-3055 (this is not a toll-free number). Persons with hearing- or speech-impairments may access this number through TTY by calling the toll-free Federal Relay Service at 800-877-8339.

For information concerning a particular waiver that was granted and for which public notice is provided in this document, contact the person whose name and address follow the description of the waiver granted in the accompanying list of waivers that have been granted in the first quarter of calendar year 2018.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from January 1, 2018 through March 31, 2018. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the first quarter of calendar year 2018) before the next report is published (the second quarter of calendar year 2018), HUD will include any additional waivers granted for the first quarter in the next report.

Accordingly, information about approved waiver requests pertaining to HUD regulations is provided in the Appendix that follows this notice.

Dated: June 21, 2018.
J. Paul Compton Jr.,
General Counsel.

Appendix

Listing of Waivers of Regulatory Requirements Granted by Offices of the Department of Housing and Urban Development January 1, 2018 Through March 31, 2018

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 91.15(a)(2).

Project/Activity: Housing Trust Fund (HTF) Allocation Plan Submission Requirement.

Nature of Requirement: The state of Nevada requested a waiver of 24 CFR 91.15(a)(2) to permit the Department to accept the state's untimely Fiscal Year (FY) 2017 HTF allocation plan submission. The regulation at 24 CFR 91.15(a)(2) states that HUD will in no event accept a HTF allocation plan that is submitted after August 16.

Granted By: Neal J. Rackleff, Assistant Secretary for Community Planning and Development.

Date Granted: March 19, 2018.

Reason Waived: The state has a severe shortage of affordable housing units for extremely low-income households. Consequently, it is important that the state receive its FY 2017 HTF funds to develop decent safe affordable housing for households at or below 30% area median income. Further, the state is developing detailed procedures to ensure that all future HTF allocation plan submissions are submitted timely.

Contact: Virginia Sardone, Director, Office of Affordable Housing Programs, Office of Community Planning and Development, Department of Housing and Urban Development, 451 Seventh Street SW, Room 10170, Washington, DC 20410, telephone (202) 708-2684.

• Regulation: 24 CFR 92.214(a)(6)—HOME Prohibited Activities and Fees.

Project/Activity: The city of Flint, Michigan, requested a waiver of 24 CFR 92.214(a)(6) to permit it to invest additional HOME funds in a troubled HOME-assisted project, Berridge Place, during the HOME period of affordability.

Nature of Requirement: The regulation at 24 CFR 92.214(a)(6) prohibits a participating jurisdiction from investing additional HOME funds in a project previously assisted with HOME funds during the period of affordability established in the written agreement.

Granted By: Neal J. Rackleff, Assistant Secretary for Community Planning and Development.

Date Granted: February 5, 2018.

Reason Waived: Without an additional $200,000 of HOME funds, Berridge Place is in jeopardy of default as project operating costs exceed revenue. An additional $200,000 of HOME funds will permit the project owner to pay-off existing debt and use the savings from the debt payment to fund a project replacement reserve. This waiver prevents the loss of 11 HOME-assisted units and the possible displacement of low-income residents.

Contact: Virginia Sardone, Director, Office of Affordable Housing Programs, Office of Community Planning and Development, Department of Housing and Urban Development, 451 Seventh Street SW, Room 10170, Washington, DC 20410, telephone (202) 708-2684.

• Regulation: 24 CFR 92.252(d)(1) Utility Allowance Requirements.

Project/Activity: The city of Salinas, California, requested a waiver of 24 CFR 92.252(d)(1) to allow use of utility allowance established by local public housing agency (PHA) for a HOME-assisted project under construction—Moon Gate Plaza Apartments.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects for which HOME funds were committed on or after August 23, 2013.

Granted By: Neal J. Rackleff, Assistant Secretary for Community Planning and Development.

Date Granted: March 19, 2018.

Reason Waived: The HOME requirements for establishing utility allowances conflict with Project Based Voucher program requirements. It is not possible to use two different utility allowances to set the rent for a single unit and it is administratively burdensome to require a project owner establish and implement different utility allowances for HOME-assisted units and non-HOME assisted units in a project.

Contact: Virginia Sardone, Director, Office of Affordable Housing Programs, Office of Community Planning and Development, Department of Housing and Urban Development, 451 Seventh Street SW, Room 10170, Washington, DC 20410, telephone (202) 708-2684.

• Regulation: 24 CFR 92.252(d)(1) Utility Allowance Requirements.

Project/Activity: The county of Sonoma, California, requested a waiver of 24 CFR 92.252(d)(1) to allow use of utility allowance established by local public housing agency (PHA) for a HOME-assisted project under construction—Crossroads Apartments.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects for which HOME funds were committed on or after August 23, 2013.

Granted By: Neal J. Rackleff, Assistant Secretary for Community Planning and Development.

Date Granted: March 19, 2018.

Reason Waived: The HOME requirements for establishing a utility allowances conflict with Project Based Voucher program requirements. It is not possible to use two different utility allowances to set the rent for a single unit and it is administratively burdensome to require a project owner establish and implement different utility allowances for HOME-assisted units and non-HOME assisted units in a project.

Contact: Virginia Sardone, Director, Office of Affordable Housing Programs, Office of Community Planning and Development, Department of Housing and Urban Development, 451 Seventh Street SW, Room 10170, Washington, DC 20410, telephone (202) 708-2684.

• Regulation: 24 CFR 92.254(a)(4)—Period of Affordability.

Project/Activity: The state of Minnesota requested a waiver of 24 CFR 92.254(a)(4) to allow it to reduce the period of affordability for two HOME-assisted projects that are no longer habitable, one due to fire and the other due to structural defects. In both instances, the properties had nearly met the required compliance period.

Nature of Requirement: The regulation 24 CFR 92.252(e) requires that all HOME-assisted units remain affordable for a specified period following project completion based on the amount of HOME funds invested and type of activity.

Granted By: Neal J. Rackleff, Assistant Secretary for Community Planning and Development.

Date Granted: March 19, 2018.

Reason Waived: Without a waiver of the period of affordability, the state would be obligated to repay the HOME funds invested in the two properties. The Department determined that the state demonstrated due diligence by ensuring that the properties complied with HOME requirements during their useful lives, and the circumstances that rendered the properties uninhabitable were beyond the state's control.

Contact: Virginia Sardone, Director, Office of Affordable Housing Programs, Office of Community Planning and Development, Department of Housing and Urban Development, 451 Seventh Street SW, Room 10170, Washington, DC 20410, telephone (202) 708-2684.

• Regulation: 24 CFR 92.500(d)(2)(i)(C)—HOME Expenditure Requirement.

Project/Activity: The city of Flint, Michigan, requested a waiver of 24 CFR 92.500(d)(2)(i)(C) for its Fiscal Year 2012 HOME expenditure deadline to provide additional time to expend HOME funds for its vulnerable population.

Nature of Requirement: The regulation at 24 CFR 92.500(d)(2)(i)(C) requires a participating jurisdiction to expend its annual allocation of HOME funds within five years after HUD notifies the participating jurisdiction that HUD has executed the jurisdiction's HOME Investment Partnership Agreement.

Granted By: Neal J. Rackleff, Assistant Secretary for Community Planning and Development.

Date Granted: February 5, 2018.

Reason Waived: A waiver of the HOME expenditure deadline protects funds that HUD has agreed should be invested to make a financially-troubled HOME project, Berridge Place, sustainable for the duration of the HOME period of affordability. In addition, the waiver will ensure that needed funds are not deobligated and the city has sufficient funds to address other affordable housing needs in the city following the lead water crisis.

Contact: Virginia Sardone, Director, Office of Affordable Housing Programs, Office of Community Planning and Development, Department of Housing and Urban Development, 451 Seventh Street SW, Room 10170, Washington, DC 20410, telephone (202) 708-2684.

• Regulation: 24 CFR 91.105(c)(2) and (k) and 24 CFR 91.115(c)(2) and (i), and 91.401 and 24 CFR 570.201(e)(1), 24 CFR 570.207(b)(3), and 24 CFR 570.207(b)(4).

Project/Activity: Santa Rosa, CA.

Nature of Requirement: 24 CFR 91.105(c)(2) and (k) and 24 CFR 91.115(c)(2) and (i), and 91.401 and 24 CFR 570.201(e)(1), 24 CFR 570.207(b)(3), and 24 CFR 570.207(b)(4) require a 30-day public comment period prior to the implementation of a substantial amendment, limit the amount of CDBG funds used for public services to no more than 15 percent of each grant plus 15 percent of program income received, prohibit CDBG funds from being used for the new construction of housing, and prohibit the use of CDBG funds for income payments except in the case of emergency grant payments made for up to three consecutive months to a service provider, respectively. Section 105(a) enumerates the eligible Community Development Block Grant activities and (a)(8) the limitation of no more than 15 percent of each grant to be used for public services.

Granted By: Neal Rackleff, Assistant Secretary for Community Planning and Development.

Date Granted: March 19, 2018.

Reason Waived: Santa Rosa was heavily impacted by the wildfires that started on October 9, 2017. A Presidentially-declared disaster declaration (FEMA-DR-4344) was issued on October 10, 2017. The waiver reduces the public comment period from thirty to seven days, allows the city of Santa Rosa to determine what constitutes reasonable notice to comment on the proposed amendments to its Consolidated Plan, relaxes new housing construction and reconstruction provisions, waives the 15 percent public service cap for two years, and extends emergency grant payments for individuals for up to six consecutive months. These waived CDBG requirements allow the city to expedite recovery efforts for low and moderate income residents affected by the wildfires; pay for additional support services for affected individuals and families, including, but not limited to, food, health, employment, and case management services to help county residents impacted by the fires; use CDBG funds for new housing construction to replace affordable housing units lost as a result of the fires and destruction; and enable the city to pay for the basic daily needs of individuals and families affected by the fires on an interim basis.

Contact: Steve Johnson, Director, Entitlement Communities Division, Office of Community Planning and Development, Department of Housing and Urban Development, 451 Seventh Street SW, Room 7282, Washington, DC 20410, telephone (202) 402-4548.

• Regulation: 24 CFR 91.105(c)(2) and (k) and 24 CFR 91.115(c)(2) and (i), and 91.401 and 24 CFR 570.201(e)(1), 24 CFR 570.207(b)(3), and 24 CFR 570.207(b)(4).

Project/Activity: Sonoma County, CA.

Nature of Requirement: 24 CFR 91.105(c)(2) and (k) and 24 CFR 91.115(c)(2) and (i), and 91.401 and 24 CFR 570.201(e)(1), 24 CFR 570.207(b)(3), and 24 CFR 570.207(b)(4) require a 30-day public comment period prior to the implementation of a substantial amendment, limit the amount of CDBG funds used for public services to no more than 15 percent of each grant plus 15 percent of program income received, prohibit CDBG funds from being used for the new construction of housing, and prohibit the use of CDBG funds for income payments except in the case of emergency grant payments made for up to three consecutive months to a service provider, respectively.

Granted By: Neal Rackleff, Assistant Secretary for Community Planning and Development.

Date Granted: March 27, 2018.

Reason Waived: Sonoma County was heavily impacted by the wildfires and mudslides that started on October 9, 2017. A Presidentially-declared disaster declaration (FEMA-DR-4344) was issued on October 10, 2017. The waiver reduces the public comment period from thirty to seven days, allows Sonoma County to determine what constitutes reasonable notice to comment on the proposed amendments to its Consolidated Plan, relaxes new housing construction and reconstruction provisions, waives the public service cap for 2018-2019 with a ceiling of 40 percent on public service expenditures, and extends emergency grant payments to individuals for up to six consecutive months. The waiver granted will allow the county to expedite recovery efforts for low and moderate income residents affected by the wildfires and subsequent mudslides; pay for additional support services for affected individuals and families, including, but not limited to, food, health, employment, and case management services to help county residents impacted by the fires; use CDBG funds for new housing construction to replace affordable housing units lost as a result of the fires and mudslides; and enable the county to pay for the basic daily needs of individuals and families affected by the fires on an interim basis.

Contact: Steve Johnson, Director, Entitlement Communities Division, Office of Community Planning and Development, Department of Housing and Urban Development, 451 Seventh Street SW, Room 7282, Washington, DC 20410, telephone (202) 402-4548.

• Regulation: 2 CFR 200.512(a)(1).

Project/Activity: Extension of Submission Date for Single Audit Report. The municipalities in Puerto Rico are identified below.

Nature of Requirement: The audit must be completed, and both the data collection form described in 2 CFR 200.512(b), and the reporting package described in 2 CFR 200.512(c), must be submitted to HUD within the earlier of 30 calendar days after receipt of the auditor's report, or nine months after the end of the audit period.

Granted By: Stanley Gimont, Deputy Assistant Secretary for Grant Programs.

Date Granted: See below.

Reason Waived: Hurricanes Irma and Maria caused extensive damage to Puerto Rico's infrastructure, resulting in a loss of electricity and telecommunication services for an extended period of time over much of the Commonwealth of Puerto Rico. The Office of Management and Budget (OMB) issued a memorandum on October 26, 2017, granting agencies the flexibility to allow grantees located in a county or a parish where a major disaster has been declared under the Robert T. Stafford Disaster Relief and Emergency Assistance Act (42 U.S.C. 5121 et seq.) as a result of Hurricanes Harvey, Irma and Maria “to delay the completion and submission of the Single Audit report to twelve months beyond the normal due date.” HUD is the cognizant agency for the municipalities identified below and has determined that it is appropriate to allow these municipalities a twelve-month extension of the Single Audit report submission requirements pursuant to the OMB memo.

Contact: Gloria Coates, Senior Community Planning and Development Specialist, Office of Community Planning and Development, Department of Housing and Urban Development, Office of Block Grant Assistance, Entitlement Communities Division, 451 Seventh Street SW, Room 7282, Washington, DC 20410, telephone (202) 708-1577.

Municipalities | Date waiver granted
Arecibo | March 14, 2018.
Aguadilla | March 14, 2018.
Guayama | March 14, 2018.
Humacao | March 14, 2018.
Rio Grande | March 14, 2018.
Toa Baja | March 14, 2018.
Trujilla Alto | March 14, 2018.
Vega Baja | March 14, 2018.
Carolina | March 21, 2018.
Juana Diaz | March 21, 2018.
Toa Alta | March 21, 2018.
Yauco | March 21, 2018.

• Regulation: 24 CFR 570.200(h).

Project/Activity: On January 24, 2018, HUD issued CPD Notice #CPD-18-01 implementing procedures to govern the submission and review of consolidated plans and action plans for FY 2018 funding prior to the enactment of a FY 2018 HUD appropriation bill. These procedures apply to any Entitlement, Insular or Hawaii nonentitlement grantee with a program year start date prior to, or up to 60 days after, HUD's announcement of the FY 2018 formula program funding allocations for CDBG, ESG, HOME and HOPWA formula funding. Any grantee with an FY 2018 program year start date during the period starting October 1, 2017, and ending August 16, 2018, or 60 days after HUD announcement of FY 2018 allocation amounts (whichever comes first), is advised not to submit its consolidated plan/action plan until the FY 2018 formula allocations have been announced.

Nature of Requirement: The Entitlement CDBG program regulations provide for situations in which a grantee may incur costs against its CDBG grant prior to the award of its grant from HUD. Under the regulations, the effective date of a grantee's grant agreement is either the grantee's program year start date or the date that the grantee's annual action plan is received by HUD, whichever is later. This waiver allows grantees to treat the effective date of the FY 2018 program year as the grantee's program year start date or date, or the date that the grantee's annual action plan is received by HUD, whichever is earlier.

Granted By: Neal Rackleff, Assistant Secretary for Community Planning and Development.

Date Granted: January 24, 2018, for effect on December 12, 2017.

Reason Waived: Under the provisions of the Notice, a grantee's action plan may not be submitted to (and thus received by) HUD until several months after the grantee's program year start date. Lengthy delays in the receipt of annual appropriations by HUD, and implementation of the policy to delay submission of FY 2018 Action Plans, may have negative consequences for CDBG grantees that intend to incur eligible costs prior to the award of FY 2018 funding. Some activities might otherwise be interrupted while implementing these revised procedures. In addition, grantees might not otherwise be able to use CDBG funds for planning and administrative costs of administering their programs. In order to address communities' needs and to ensure that programs can continue without disturbance, this waiver will allow grantees to incur pre-award costs on a timetable comparable to that under which grantees have operated in past years. This waiver is available for use by any applicable CDBG grantee whose action plan submission is delayed past the normal submission date because of delayed enactment of FY 2018 appropriations for the Department. This waiver authority is only in effect until August 16, 2018.

Contact: Steve Johnson, Director, Entitlement Communities Division, Office of Block Grant Assistance, Office of Community and Planning Development, 451 Seventh Street SW, Room 7282, Washington, DC 20410, telephone (202) 708-1577.

• Regulation: 24 CFR 578.37(a)(1)(ii).

Project/Activity: HUD granted a waiver of 24 CFR 578.37(a)(1)(ii), for recipients in federally declared emergency and disaster areas within specified Continuums of Care in Texas, Louisiana, the U.S. Virgin Islands, Puerto Rico and Florida due to damages and related flooding sustained by Hurricanes Harvey, Irma, and Maria. The waiver permits rapid re-housing projects to provide up to 3 years of rental assistance to any program participants affected by the hurricanes or related flooding, including those already receiving rental assistance through a rapid re-housing project, as well as those who begin receiving rental assistance through a rapid re-housing project within two years after the date of this waiver.

Nature of Requirement: Under 24 CFR 578.37(a)(1)(ii), rental assistance provided by rapid re-housing projects is limited to short and medium terms, which permit up to 3 months of rent, and 3 to 24 months of rent, respectively. In addition, 24 CFR 578.37(a)(1)(ii)(C) requires rapid re-housing projects to limit rental assistance to no more than 24 months to a household.

Granted By: Neal Rackleff, Assistant Secretary for Community Planning and Development.

Date Granted: January 3, 2018.

Reason Waived: Waiving the 24-month cap on rapid re-housing rental assistance will assist individuals and families affected by the hurricanes and flooding, including those already receiving rental assistance, as well as those who will receive rental assistance within 2 years of the date of this waiver, to maintain stable permanent housing in another area and help them return to their hometowns, as desired, when additional permanent housing becomes available. It will also provide additional time to stabilize individuals and families in permanent housing where vacancy rates are extraordinarily low due to the hurricanes and flooding. Experience with prior disasters has shown us some program participants need additional months of rental assistance to identify and stabilize in housing of their choice, which can mean moving elsewhere until they are able to return to their hometowns.

Contact: Norm Suchar, Director, Office of Special Needs Assistance Programs, Office of Community Planning and Development, Department of Housing and Urban Development, 451 Seventh Street, SW, Room 7262, Washington, DC 20410, telephone number (202) 708-4300.

• Regulation: 24 CFR 578.3 and 24 CFR 578.51(l)(1).

Project/Activity: HUD granted a waiver of 24 CFR 578.3 and 24 CFR 578.51(l)(1) for recipients in federally declared emergency and disaster areas within specified Continuums of Care in Texas, Louisiana, the U.S. Virgin Islands, Puerto Rico and Florida due to damages and related flooding sustained by Hurricanes Harvey, Irma, and Maria. The waiver permits permanent housing assistance, including both rapid re-housing and permanent supportive housing, to be provided to a program participant who enters into a lease with an initial term of less than one year, so long as the program participant enters the lease during the next two years (beginning on the date of this waiver), the initial term of the lease is for more than one month, the lease is renewable for terms that are a minimum of one month long, and the lease is only terminable for cause.

Nature of Requirement: The “permanent housing” definition at 24 CFR 578.3 and the lease requirement for permanent housing rental assistance at 24 CFR 578.51(l)(1) require program participants to have a lease with an initial term of at least one year, which is renewable for terms that are a minimum of one month long and is terminable only for cause.

Granted By: Neal Rackleff, Assistant Secretary for Community Planning and Development.

Date Granted: January 3, 2018.

Reason Waived: Waiving these provisions will allow program participants residing in affected permanent supportive housing and rapid re-housing units to enter into leases that have an initial term of less than one year, so long as the leases have an initial term of more than one month, are renewable for terms that are a minimum of one month long and are only terminable for cause. While some program participants desire to identify new housing, many program participants displaced during the hurricanes and flooding desire to return to their original permanent housing units when repairs are completed because of proximity to schools and access to public transportation and services. Experience with prior disasters has shown that waiving the one-year lease requirement will improve the permanent housing options available to program participants.

Contact: Norm Suchar, Director, Office of Special Needs Assistance Programs, Office of Community Planning and Development, Department of Housing and Urban Development, 451 Seventh Street SW, Room 7262, Washington, DC 20410, telephone number (202) 708-4300.

• Regulation: 24 CFR 578.49(b)(2).

Project/Activity: HUD granted a waiver of 24 CFR 578.49(b)(2) for recipients in federally declared emergency and disaster areas within specified Continuums of Care in Texas, Louisiana, the U.S. Virgin Islands, Puerto Rico and Florida due to damages and related flooding sustained by Hurricanes Harvey, Irma, and Maria. The FMR restriction in 24 CFR 578.49(b)(2) is waived for any rent amount that takes effect during the two-year period beginning on the date of this waiver. Affected recipients and subrecipients must still meet the rent standards in 24 CFR 578.49(b)(2) when leasing funds are used for individual housing units—the rent paid must be reasonable in relation to rents being charged for comparable units, taking into account the location, size, type, quality, amenities, facilities, and management services.

Nature of Requirement: 24 CFR 578.49(b)(2) provides that when leasing funds are used to pay rent for individual housing units, the rent paid must be reasonable in relation to rents being charged for comparable units, the rent must not exceed rents currently being charged for comparable units, and the rent paid must not exceed HUD-determined fair market rents.

Granted By: Neal Rackleff, Assistant Secretary for Community Planning and Development.

Date Granted: January 3, 2018.

Reason Waived: Waiving this provision will allow recipients and subrecipients more flexibility in identifying housing options for program participants in the designated areas under FEMA-DR-4332, FEMA-EM-3382, FEMA-DR-4335, FEMA-DR-4336, FEMA-DR-4337, FEMA-DR-4339, or FEMA-DR-4340. The rental markets in areas impacted by disasters are often more expensive after disasters due to decreased housing stock and increased rents. These more expensive rents are not reflected in the HUD-determined FMRs.

Contact: Norm Suchar, Director, Office of Special Needs Assistance Programs, Office of Community Planning and Development, Department of Housing and Urban Development, 451 Seventh Street SW, Room 7262, Washington, DC 20410, telephone (202) 708-4300.

• Regulation: 24 CFR 578.53(e)(2).

Project/Activity: HUD granted a waiver of 24 CFR 578.53(e)(2) for recipients in federally declared emergency and disaster areas within specified Continuums of Care in Texas, Louisiana, the U.S. Virgin Islands, Puerto Rico and Florida due to damages and related flooding sustained by Hurricanes Harvey, Irma, and Maria. The waiver permits recipients to use supportive services funds for reasonable moving costs to move current program participants as well as anyone who becomes a program participant in the designated areas in FEMA-DR-4332, FEMA-EM-3382, FEMA-DR-4335, FEMA-DR-4336, FEMA-DR-4337, FEMA-DR-4339, or FEMA-DR-4340 more than once within two years from the date of the waiver.

Nature of Requirement: 24 CFR 578.53(e)(2) allows recipients of supportive services funds to provide reasonable moving assistance, including truck rental and hiring a moving company, only one time per program participant.

Granted By: Neal Rackleff, Assistant Secretary for Community Planning and Development.

Date Granted: January 3, 2018.

Reason Waived: Waiving this provision will permit recipients to pay for reasonable moving costs for program participants more than once and will assist program participants affected by hurricanes and flooding as well as those who become homeless in areas impacted by the flooding within two years of the date of this waiver to stabilize in housing locations of their choice. Many current program participants received assistance moving into their assisted units prior to being displaced by the hurricanes and flooding and experience with prior disasters has shown us some participants will need additional assistance moving to a new unit while others will need assistance moving back to their original units after repairs are completed. Further, until the housing market stabilizes, experience has shown many program participants will need to move more than once during their participation in a program to find a unit that best meets their needs.

Contact: Norm Suchar, Director, Office of Special Needs Assistance Programs, Office of Community Planning and Development, Department of Housing and Urban Development, 451 Seventh Street SW, Room 7262, Washington, DC 20410, telephone (202) 708-4300.

• Regulation: 24 CFR 576.106(d)(1).

Project/Activity: HUD granted a waiver of 24 CFR 576.106(d)(1) to the State of Arizona. The waiver allows the state's subrecipient, U.S. Veterans Initiative, to provide rapid re-housing rental assistance in Yavapai County, AZ for units for which the total rent exceeds the Fair Market Rent (FMR) established by HUD, as provided under 24 CFR part 888. The FMR restriction is waived for rents up to 110 percent of the FMR that are owed after the date of the waiver memorandum by individuals or families who begin receiving ESG rapid re-housing rental assistance during the one-year period beginning on the date of the waiver memorandum (January 3, 2018). However, the affected recipients and their subrecipients must still ensure that the units in which ESG assistance is provided to these individuals and families meet the rent reasonableness standard.

Nature of Requirement: Under 24 CFR 576.106(d)(1), rental assistance cannot be provided unless the total rent is equal to or less than the FMR established by HUD, as provided under 24 CFR part 888, and complies with HUD's standard of rent reasonableness, as established under 24 CFR 982.507.

Granted By: Neal Rackleff, Assistant Secretary for Community Planning and Development.

Date Granted: January 3, 2018.

Reason Waived: HUD granted the waiver to increase housing options for ESG program participants in Yavapai County, AZ being assisted by the State of Arizona's subrecipient, U.S. Veterans Initiative. Specifically, HUD determined that the rental vacancy rate in Yavapai County, AZ was very low, and the current FMRs did not reflect the actual rents being listed in the area, and U.S. Vets was experiencing difficulty providing much-needed short- and medium-term rapid re-housing rental assistance to eligible participants.

Contact: Norm Suchar, Director, Office of Special Needs Assistance Programs, Office of Community Planning and Development, Department of Housing and Urban Development, 451 Seventh Street SW, Room 7262, Washington, DC 20410, telephone number (202) 708-4300.

• Regulation: 24 CFR 576.106(d)(1).

Project/Activity: HUD granted a waiver of 24 CFR 576.106(d)(1) to Sonoma County, California, which was included in disaster declaration FEMA-4344-DR. The waiver allows the county and its subrecipients to provide rental assistance for units for which the total rent exceeds the Fair Market Rent (FMR) established by HUD, as provided under 24 CFR part 888. The FMR restriction is waived for any rent amount that takes effect during the two-year period beginning on the date of the waiver memorandum (March 27, 2018) for any individual or family who is renting or executes a lease for a unit in the declared-disaster area. However, the affected recipients and their subrecipients must still ensure that the units in which ESG assistance is provided to these individuals and families meet the rent reasonableness standard.

Nature of Requirement: Under 24 CFR 576.106(d)(1), rental assistance cannot be provided unless the total rent is equal to or less than the FMR established by HUD, as provided under 24 CFR part 888, and complies with HUD's standard of rent reasonableness, as established under 24 CFR 982.507.

Granted By: Neal Rackleff, Assistant Secretary for Community Planning and Development.

Date Granted: March 27, 2018.

Reason Waived: HUD granted the waiver to expedite efforts to identify suitable housing units in the declared-disaster area for rent to ESG beneficiaries and ESG-eligible families that have been affected by the wildfires, and to provide assistance to families in the declared-disaster area that must rent units at rates that exceed the FMR. Specifically, HUD determined that the rental vacancy rate in areas affected by the wildfires is extraordinarily low, and waiving the FMR restriction will make more units available to individuals and families in need of permanent housing.

Contact: Norm Suchar, Director, Office of Special Needs Assistance Programs, Office of Community Planning and Development, Department of Housing and Urban Development, 451 Seventh Street SW, Room 7262, Washington, DC 20410, telephone number (202) 708-4300.

• Regulation: 24 CFR 574.320(a)(2).

Project/Activity: Santa Rosa, California HOPWA Program.

Nature of Requirement: The regulation states that the grantee must establish rent standards for its tenant-based rental assistance (TBRA) programs based on Fair Market Rent (FMR). Generally, the TBRA payment may not exceed the difference between the rent standard and 30 percent of the family's adjusted income.

Granted By: Neal J. Rackleff, Assistant Secretary for Community Planning and Development.

Date Granted: March 19, 2018.

Reason Waived: This waiver of the FMR rent standard limit permits the HOPWA grantee to establish rent standards, by unit size, that are reasonable and based upon rents being charged for comparable unassisted units in the area, taking into account the location, size, type, quality, amenities, facilities, management and maintenance of each unit. The grantee, however, is required to ensure the reasonableness of rent charged for a unit in accordance with 24 CFR 574.320(a)(3).

This waiver will expedite efforts to identify suitable housing units in the declared-disaster area (see FEMA-DR-4344) for rent to HOPWA beneficiaries and HOPWA-eligible families that have been affected by the wildfires, and to provide assistance to families in the declared-disaster area that must rent units at rates that exceed the HOPWA grantee's normal rent standard as calculated in accordance with 24 CFR 574.320(a)(2).

Contact: Claire Donze, Management Analyst, Office of HIV/AIDS Housing, Office of Community Planning and Development, Department of Housing and Urban Development, 451 Seventh Street SW, Room 7248, Washington, DC 20410, telephone (202) 402-2365.

II. Regulatory Waivers Granted by the Office of Housing—Federal Housing Administration (FHA)

For further information about the following regulatory waivers, please see the name of the contact person that immediately follows the description of the waiver granted.

• Regulation: Section 2.1.9 of Mortgagee Letter 2011-22.

Project/Activity: Partial Waiver of the provisions of Section 2.1.9 of Mortgagee Letter 2011-22: Attachment 1: Of the Condominium Project Approval and Processing Guide pertaining to master/blanket hazard, flood, liability and other insurance requirements for the following condominium projects or housing developments that otherwise would not qualify for FHA insurance to be eligible for FHA insurance:

Manufactured Housing Condominium Projects (MHCPs), which are detached manufactured homes subject to a condominium management structure, where all the land is owned commonly by all the owners in the development.

Detached Condominium Housing Projects (DCHPs), where the land underneath the homes is subject to a long-term leasehold interest or owned by the Homeowners Association itself.

Common Interest Housing Developments (CIHDs), which consists of multiple buildings, typically with 2-4 units in each building, and the units are structured with various ownership interests.

Nature of Requirement: Section 2.1.9 of Mortgagee Letter 2011-22: Attachment 1 of the Condominium Project Approval and Processing Guide requires that the Homeowners Association, and not the unit owner, obtain hazard, flood, liability, and other insurance. The partial waiver continues an existing waiver, which allows certain types of condominium projects and housing developments to continue their approval and where required by condo legal documents, allow individual unit owners, instead of the Homeowner Associations to be responsible for obtaining insurance.

Granted By: Dana T. Wade, General Deputy Assistant Secretary for Housing.

Date Granted: February 7, 2018.

Reason Waived: Without the partial waiver, MCHPs, DCHPs, and CIHDs condominium projects are ineligible for initial FHA approval or recertification and the ineligibility substantially reduces the available affordable housing stock. The risk to the Mutual Mortgage Insurance fund associated with the property insurance coverage in financing an individual unit within these projects is not greater than a unit within a subdivision, planned unit development or single family home.

Contact: Elissa O. Saunders, Director, Office of Single Family Program Development, Office of Housing, Department of Housing and Urban Development, 451 Seventh Street SW, Room 9278, Washington, DC 20410-8000, telephone (202) 402-2378.

• Regulation: 24 CFR 200.73 (c).

Project/Activity: Riverside Homes, Project Number TBD, Minneapolis, Minnesota. Dougherty Mortgage LLC have applied to HUD for mortgage insurance under Section 221(d) program to substantially rehabilitate Riverside Homes property as a single property.

Nature of Requirement: The 24 CFR part 200.73(c), which states that a site must contain no less than 5 rental dwelling units. Section 3.1.O.l.CC of the MAP Guide permits a project with two or more contiguous parcels of land when the parcels comprise one marketable, manageable real estate entity.

Granted By: Dana T. Wade, General Deputy Assistant Secretary for Housing.

Date Granted: January 24, 2018.

Reason Waived: The waiver was granted to allow Riverside Homes as a single project since its meet HUD's goal of preserving and maintaining affordable rental housing for low income families. The property consists of 191 units, of which 103 are covered by Project-Based Section 8 HAP contracts. There are 68 buildings that have less than five units; 10 of which are non-contiguous. In 1999, the Riverside Homes properties were consolidated into one project and all 74 buildings were acquired by the current owner. This is an affordable multifamily property consisting of 74 townhome, duplex and triplex buildings located in Cedar-Riverside neighborhood of Minneapolis, Minnesota. The borrower will obtain new 20-year HAP contract as part of this transaction and is seeking to consolidate the 103 units covered into one HAP contract.

Contact: Patricia M. Burke, Acting Director, Office of Multifamily Production, HTD, Office of Housing, Department of Housing and Urban Development, 451 Seventh Street SW, Room 6130, Washington, DC 20410, telephone (202) 402-5693.

• Regulation: 24 CFR 200.73(c).

Project/Activity: Sterling Green Village Homes, FHA Project Number 114-11445, Channelview, Harris County, Texas. The owner and the proposed lender, AGM Financial Services, Inc. (“AGM) have applied to HUD for mortgage insurance under Section 223(f) program to refinance Sterling Green Village property as a single project.

Nature of Requirement: The 24 CFR part 200.73(c) which, states that a site must contain no less than 5 rental dwelling units. Section 3.1.O.l.CC of the MAP Guide permits a project with two or more contiguous parcels of land when the parcels comprise one marketable, manageable real estate entity.

Granted By: Dana T. Wade, General Deputy Assistant Secretary for Housing.

Date Granted: March 8, 2018.

Reason Waived: The waiver was granted to allow Sterling Green Village Homes as a single project since its meet HUD's goal of preserving and maintaining affordable rental housing for low income families. The property consists of 150 one and two-story single-family detached rental units built on several non-contiguous parcels of land scattered across several blocks in the Sterling Green Residential Subdivision. The 16.34-acre property was developed in 1996 with 9% low-income housing tax credits and underwent renovation in 2014. The 150 rental units are in clusters across the subdivision on several parcels of land of varying sizes. There are 2 parcels that contain less than 5 units each; specifically, one parcel consists of 2 units and the other consists of 4 units. The property is managed and operated under one Management Office.

Contact: Patricia M. Burke, Acting Director, Office of Multifamily Production, HTD, Office of Housing, Department of Housing and Urban Development, 451 Seventh Street SW, Room 6130, Washington, DC 20410-8000, telephone (202) 402-5693.

Regulation: 24 CFR 207.251(c), 207.258(b)(2), and 207.258(b)(5)(ii).

Project/Activity: Morehead Memorial Hospital, FHA Project Number 053-13010, Eden, North Carolina.

Nature of Requirement: 24 CFR 207.251(c), 207.258(b)(2), and 207.258(b)(5)(ii) require that the lender, Berkadia., have a first lien on real estate in order for FHA to accept an assignment and pay a mortgage insurance claim.

Granted By: Dana T. Wade, General Deputy Assistant Secretary for Housing.

Date Granted: March 13, 2018.

Reason Waived: A waiver was granted to enable Berkadia to successfully apply for mortgage insurance benefits. At the time the loan went into default, Berkadia held a mortgage that was secured by a first lien on real estate. Berkadia met the statutory requirements for claim payment, but before the claim could be processed, the Bankruptcy Court changed the nature of the first lien security for the insured mortgage such that Berkadia could not complete the assignment of a real estate lien.

Specifically, according to the Bankruptcy Court's Order Authorizing and Approving the Sale, following the Section 363 sale, the Bankruptcy Court ordered that all liens, encumbrances, and other interests attach to the proceeds of the sale in the order of their priority, with the same validity, extent, force and effect that they had as of the closing date. The mortgage loan remains in default, and despite the sale of the hospital, the debt remains outstanding. Berkadia retained a first lien priority status to the sales proceeds and granting a waiver will allow Berkadia to file a claim in exchange for the assignment of the security to HUD.

Contact: Paul Giaudrone, Underwriting Director, Office of Hospital Facilities, Office of Housing, Department of Housing and Urban Development, 451 Seventh Street SW, Room WOC, Washington, DC 20410, telephone (202) 402-5684.

• Regulation: 24 CFR 232.7.

Project/Activity: Lakeshore Woods Assisted Living Facility, FHA Project Number 044-22092, is an Assisted Living/Memory Care/Traumatic Brain Injury facility. The facility does not meet the requirements of 24 CFR 232.7 “Bathroom” of FHA's regulations. The project is located in Fort Gratiot, Michigan.

Nature of Requirement: The regulation at 24 CFR 232.7 mandates in a board and care home or assisted living facility that not less than one full bathroom must be provided for every four residents. Also, the bathroom cannot be accessed from a public corridor or area.

Granted By: Dana T. Wade, General Assistant Secretary for Housing.

Date Granted: January 30, 2018.

Reason Waived: The project currently has a resident to shower ratio of 8:1, with a total of 6:1 after modifications to be funded from the FHA financing are complete. The memory care and traumatic brain injury residents require assistance with bathing. These residents are housed in units in a secure, lock-down area, with a half-bathroom each and access to the shower rooms through a hallway. The project meets the State of Michigan's licensing requirements for bathing and toileting facilities.

Contact: Vance T. Morris, Operations Manager, Office of Healthcare Programs, Office of Housing, Department of Housing and Urban Development, 451 Seventh Street SW, Room 2337, Washington, DC 20401, telephone (202) 402-2419.

Regulation: 24 CFR 232.7.

Project/Activity: Cross Healthcare, Assisted Living/Memory Care Facility, FHA Project Number 124-22033 is an assisted living/memory care scattered site project located on three separate parcels, with seven buildings. A number of the buildings do not meet the requirements of 24 CFR 232.7 “Bathroom” of FHA's regulations. The project is located in Idaho Springs, Idaho.

Nature of Requirement: The regulation at 24 CFR 232.7 mandates in a board and care home or assisted living facility that not less than one full bathroom must be provided for every four residents. Also, the bathroom cannot be accessed from a public corridor or area.

Granted By: Dana T. Wade, General Assistant Secretary for Housing.

Date Granted: February 21, 2018.

Reason Waived: The project is for memory care, all rooms have half-bathrooms and the access to the showers are in a hallway in a secure lock-down area. The resident to shower/bath ratio is as follows: Parcel #1: 5:1; Parcel #2: 6:1; Parcel #3: 8:1; For Parcel #3, one additional bathroom will be added to both buildings as a part of the financing, resulting in a 5:1 ratio. The memory care residents require assistance with bathing. The project meets the State of Idaho's licensing requirements for bathing and toileting facilities.

Contact: Vance T. Morris, Operations Manager, Office of Healthcare Programs, Office of Housing, Department of Housing and Urban Development, 451 Seventh Street SW, Room 2337, Washington, DC 20401, telephone (202) 402-2419.

• Regulation: 24 CFR 232.7.

Project/Activity: Carrington Manor Assisted Living Facility, FHA Project Number 075-22140 is an assisted living/memory care facility. The facility does not meet the requirements of 24 CFR 232.7 “Bathroom” of FHA's regulations. The project is located in Green Bay, Wisconsin.

Nature of Requirement: The regulation at 24 CFR 232.7 mandates in a board and care home or assisted living facility that not less than one full bathroom must be provided for every four residents. Also, the bathroom cannot be accessed from a public corridor or area.

Granted By: Dana T. Wade, General Assistant Secretary for Housing.

Date Granted: March 1, 2018.

Reason Waived: The project is a two story facility, serving memory care residents on the first floor. On the memory care floor, the, the resident to shower ratio is 10:1. All rooms have half-bathrooms and the access to the showers is through a hallway in a secure, lock-down area. The memory care residents require assistance with bathing. The project meets the State of Wisconsin's licensing requirements for bathing and toileting facilities.

Contact: Vance T. Morris, Operations Manager, Office of Healthcare Programs, Office of Housing, Department of Housing and Urban Development, 451 Seventh Street SW, Room 2337, Washington, DC 20401, telephone (202) 402-2419.

• Regulation: 24 CFR 232.7.

Project/Activity: Fair Oaks Estates Assisted Living Facility, FHA Project Number 136-22062 is an assisted living/memory care facility. The facility does not meet the requirements of 24 CFR 232.7 “Bathroom” of FHA's regulations. The project is located in Carmichael, California.

Nature of Requirement: The regulation at 24 CFR 232.7 mandates in a board and care home or assisted living facility that not less than one full bathroom must be provided for every four residents. Also, the bathroom cannot be accessed from a public corridor or area.

Granted By: Dana T. Wade, General Assistant Secretary for Housing.

Date Granted: March 1, 2018.

Reason Waived: The project is a single-story assisted living facility, serving memory care residents in a secured area of the building. In the memory care section, there are two shower rooms to accommodate twenty memory care residents, or a resident to shower ratio of 10:1. All of these rooms have half-bathroom and access to the showers is through a hallway in a secure lock-down area. The memory care residents require assistance with bathing. The project meets the State of California's licensing requirements for bathing and toileting facilities.

Contact: Vance T. Morris, Operations Manager, Office of Healthcare Programs, Office of Housing, Department of Housing and Urban Development, 451 Seventh Street SW, Room 2337, Washington, DC 20401, telephone (202) 402-2419.

• Regulation: 24 CFR 232.7.

Project/Activity: Marla Vista Manor Assisted Living Facility, FHA Project Number 075-22142 is an assisted living/memory care facility. The facility does not meet the requirements of 24 CFR 232.7 “Bathroom” of FHA's regulations. The project is located in Green Bay, Wisconsin.

Nature of Requirement: The regulation at 24 CFR 232.7 mandates in a board and care home or assisted living facility that not less than one full bathroom must be provided for every four residents. Also, the bathroom cannot be accessed from a public corridor or area.

Granted By: Dana T. Wade, General Assistant Secretary for Housing.

Date Granted: March 1, 2018.

Reason Waived: The project is a single story facility, consisting of two attached buildings, one of which serves memory care residents. In the memory care building, the, the resident to shower ratio is 10:1. All rooms have half-bathrooms and the access to the showers is through a hallway in a secure, lock-down area. The memory care residents require assistance with bathing. The project meets the State of Wisconsin's licensing requirements for bathing and toileting facilities.

Contact: Vance T. Morris, Operations Manager, Office of Healthcare Programs, Office of Housing, Department of Housing and Urban Development, 451 Seventh Street SW, Room 2337, Washington, DC 20401, telephone (202) 402-2419.

III. Regulatory Waivers Granted by the Office of Public and Indian Housing

For further information about the following regulatory waivers, please see the name of the contact person that immediately follows the description of the waiver granted.

• Regulation: 24 CFR 5.801(c) and 24 CFR 5.801(d)(1).

Project/Activity: Palacios Housing Authority (TX378).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: January 3, 2018.

Reason Waived: The Palacios Housing Authority (HA) requested “Relief from HUD Requirements Available to PHAs to Assist with Recovery and Relief Efforts on Behalf of Families Affected by Hurricanes Harvey, Irma and Future Natural Disasters Where Major Disaster Declarations Might Be Issued in 2017,” FR-6050-N-01 (October 6, 2017). The HA is recovering from damages related to Hurricane Harvey and located in Category C of the applicable Major Disaster Declaration. The HA serves Housing Choice Voucher Families in Palacios and will use the requested flexibilities to better assist families displaced by the recent natural disasters. The audited financial approval only permits the extension for filing. This FASS audited financial submission extension does not apply to Single Audit submissions to the Federal Audit Clearinghouse; the HA is required to meet the Single Audit due date.

Contact: Dee Ann R. Walker, Acting Program Manager, NASS, Real Estate Assessment Center, Office of Public and Indian Housing, Department of Housing and Urban Development, 550 12th Street SW, Suite 100, Washington, DC 20410, telephone (202) 475-7908.

• Regulation: 24 CFR 5.801(c) and 24 CFR 5.801(d)(1).

Project/Activity: Housing Authority of the City of Key West (FL013).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: January 3, 2018.

Reason Waived: The HA requested “Relief from HUD Requirements Available to PHAs to Assist with Recovery and Relief Efforts on Behalf of Families Affected by Hurricanes Harvey, Irma and Future Natural Disasters Where Major Disaster Declarations Might Be Issued in 2017,” FR-6050-N-01 (October 6, 2017). The HA is recovering from damages related to Hurricane Irma and located in Category B of the applicable Major Disaster Declaration. The HA serves Housing Choice Voucher Families in Key West and will use the requested flexibilities to better assist families displaced by the recent natural disasters. The audited financial approval only permits the extension for filing. This FASS audited financial submission extension does not apply to Single Audit submissions to the Federal Audit Clearinghouse; the HA is required to meet the Single Audit due date.

Contact: Dee Ann R. Walker, Acting Program Manager, NASS, Real Estate Assessment Center, Office of Public and Indian Housing, Department of Housing and Urban Development, 550 12th Street SW, Suite 100, Washington, DC 20410, telephone (202) 475-7908.

• Regulation: 24 CFR 5.801(c) and 24 CFR 5.801(d)(1).

Project/Activity: Monroe County Housing Authority (FL144).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: January 3, 2018.

Reason Waived: The HA requested “Relief from HUD Requirements Available to PHAs to Assist with Recovery and Relief Efforts on Behalf of Families Affected by Hurricanes Harvey, Irma and Future Natural Disasters Where Major Disaster Declarations Might Be Issued in 2017,” FR-6050-N-01 (October 6, 2017). The HA is recovering from damages related to Hurricane Irma and located in Category B of the applicable Major Disaster Declaration. The HA serves Housing Choice Voucher Families in Monroe County and Key West, and will use the requested flexibilities to better assist families displaced by the recent natural disasters. The audited financial approval only permits the extension for filing. This FASS audited financial submission extension does not apply to Single Audit submissions to the Federal Audit Clearinghouse; the HA is required to meet the Single Audit due date.

Contact: Dee Ann R. Walker, Acting Program Manager, NASS, Real Estate Assessment Center, Office of Public and Indian Housing, Department of Housing and Urban Development, 550 12th Street SW, Suite 100, Washington, DC 20410, telephone (202) 475-7908.

• Regulation: 24 CFR 5.801(c) and 24 CFR 5.801(d)(1).

Project/Activity: Municipality of Coamo (RQ042).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: January 8, 2018.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The Municipality is recovering from damages related to Hurricane Maria and located in Category C of the applicable Major Disaster Declaration. The Municipality serves Housing Choice Voucher Families in Coamo and will use the requested flexibilities to better assist families displaced by the recent natural disasters. The audited financial approval only permits the extension for filing. This FASS audited financial submission extension does not apply to Single Audit submissions to the Federal Audit Clearinghouse; the Municipality is required to meet the Single Audit due date.

Contact: Dee Ann R. Walker, Acting Program Manager, NASS, Real Estate Assessment Center, Office of Public and Indian Housing, Department of Housing and Urban Development, 550 12th Street SW, Suite 100, Washington, DC 20410, telephone (202) 475-7908.

• Regulation: 24 CFR 5.801(c) and 24 CFR 5.801(d)(1).

Project/Activity: Municipality of Vega Alta (RQ056).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: January 8, 2018.

Reason Waived: The Municipality requested “Relief from HUD Requirements Available to PHAs to Assist with Recovery and Relief Efforts on Behalf of Families Affected by Hurricanes Harvey, Irma and Future Natural Disasters Where Major Disaster Declarations Might Be Issued in 2017,” FR-6050-N-01 (October 6, 2017). The Municipality is recovering from damages related to Hurricane Maria and located in Category C of the applicable Major Disaster Declaration. The Municipality serves Housing Choice Voucher Families in Vega Alta and will use the requested flexibilities to better assist families displaced by the recent natural disasters. The audited financial approval only permits the extension for filing. This FASS audited financial submission extension does not apply to Single Audit submissions to the Federal Audit Clearinghouse; the Municipality is required to meet the Single Audit due date.

Contact: Dee Ann R. Walker, Acting Program Manager, NASS, Real Estate Assessment Center, Office of Public and Indian Housing, Department of Housing and Urban Development, 550 12th Street SW, Suite 100, Washington, DC 20410, telephone (202) 475-7908.

• Regulation: 24 CFR 5.801(c) and 24 CFR 5.801(d)(1).

Project/Activity: Ottumwa Housing Authority (IA004).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: January 10, 2018.

Reason Waived: The HA requested an extension to submit its FYE March 31, 2017, audited financial information. The HAs Board had cancelled the Auditor contract due to prior audit contained inconsistencies. A new auditor was contractor was selected, effective December 1, 2017. The HA was granted until February 18, 2018, to submit its audited financial information to the Department. The audited financial approval only permits the extension for filing. This FASS audited financial submission extension does not apply to Single Audit submissions to the Federal Audit Clearinghouse; the HA is required to meet the Single Audit due date.

Contact: Dee Ann R. Walker, Acting Program Manager, NASS, Real Estate Assessment Center, Office of Public and Indian Housing, Department of Housing and Urban Development, 550 12th Street SW, Suite 100, Washington, DC 20410, telephone (202) 475-7908.

• Regulation: 24 CFR 5.801(c) and 24 CFR 5.801(d)(1).

Project/Activity: Municipality of San Lorenzo (RQ037).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: March 9, 2018.

Reason Waived: The Municipality neglected to select Section 3: B to be waived from the financial filing and reporting compliances pertained in FR-6050-N-01 (October 6, 2017). The Municipality is recovering from damages related to Hurricane Irma and located in Category C of the applicable Major Disaster Declaration. The Municipality serves Housing Choice Voucher Families in Puerto Rico and will use the requested flexibilities to better assist families displaced by the recent natural disasters. The audited financial approval only permits the extension for filing. This FASS audited financial submission extension does not apply to Single Audit submissions to the Federal Audit Clearinghouse; the HA is required to meet the Single Audit due date.

Contact: Dee Ann R. Walker, Acting Program Manager, NASS, Real Estate Assessment Center, Office of Public and Indian Housing, Department of Housing and Urban Development, 550 12th Street SW, Suite 100, Washington, DC 20410, telephone (202) 475-7908.

• Regulation: 24 CFR 5.801(c) and 24 CFR 5.801(d)(1).

Project/Activity: Municipality of Juana Diaz (RQ038).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Dominique Blom, General Deputy Assistant Secretary for Public and Indian Housing.

Date Granted: March 9, 2018.

Reason Waived: The Municipality neglected to select Section 3: B to be waived from the financial filing and reporting compliances, pertained in FR-6050-N-01 (October 6, 2017). The Municipality is recovering from damages related to Hurricane Irma and located in Category C of the applicable Major Disaster Declaration. The Municipality serves Housing Choice Voucher Families in Puerto Rico and will use the requested flexibilities to better assist families displaced by the recent natural disasters. The audited financial approval only permits the extension for filing. This FASS audited financial submission extension does not apply to Single Audit submissions to the Federal Audit Clearinghouse; the HA is required to meet the Single Audit due date.

Contact: Dee Ann R. Walker, Acting Program Manager, NASS, Real Estate Assessment Center, Office of Public and Indian Housing, Department of Housing and Urban Development, 550 12th Street SW, Suite 100, Washington, DC 20410, telephone (202) 475-7908.

• Regulation: 24 CFR Section 985.101(a).

Project/Activity: Port Lavaca Housing Authority (PLHA) of Port Lavaca, TX. The PLHA requested a waiver regarding submittal of its 2017 Section Eight Management Assessment Program (SEMAP) due to being named a Major Disaster Declaration on August 25, 2017 within four days of the SEMAP due date.

Nature of Requirement: 24 CFR Section 985.101(a) states that a public housing agency must submit the HUD-required SEMAP certification form within 60 calendar days after the end of its fiscal year of June 30th.

Granted By: Dominique Blom, General Deputy Assistant Secretary for Public and Indian Housing.

Date Granted: March 20, 2018.

Reason Waived: Due to the Major Disaster Declaration, the PLHA was unable to submit its SEMAP certification on time. The PLHA will carry over its SEMAP score from fiscal year 2016.

Contact: Becky Primeaux, Director, Housing Voucher Management and Operations Division, Office of Public Housing and Voucher Programs, Office of Public and Indian Housing, Department of Housing and Urban Development, 451 Seventh Street SW, Room 4210, Washington, DC 20410, telephone (202) 708-0477.

• Regulation: 24 CFR Sections 983.301(f)(2)(ii) and 982.517.

Project/Activity: County of Hawaii (CH) of Hilo, Hawaii. The CH requested a waiver regarding the use of a project-specific utility allowance schedule due to energy efficient appliances and water systems. Higher utility allowances would be wasteful.

Nature of Requirement: 24 CFR Section 983.301(f)(2)(ii) provides that the same utility allowance in the tenant-based voucher program must be used for the project-based voucher program. Section 982.517 provides that the utility allowance schedule must be determined based on the typical cost of utilities and services paid by energy conservative households that occupy housing of similar size and type in the same locality.

Granted By: Dominique Blom, General Deputy Assistant Secretary for Public and Indian Housing.

Date Granted: February 13, 2018.

Reason Waived: This regulation was waived as a cost savings measure for four projects due to their energy conservation measures.

Contact: Becky Primeaux, Director, Housing Voucher Management and Operations Division, Office of Public Housing and Voucher Programs, Office of Public and Indian Housing, Department of Housing and Urban Development, 451 Seventh Street SW, Room 4210, Washington, DC 20410, telephone (202) 708-0477.

[FR Doc. 2018-14082 Filed 6-28-18; 8:45 am]

BILLING CODE 4210-67-P